DEPARTMENT OF LABOR

Employment and Training Administration

Notice of Determinations Regarding Eligibility To Apply for Worker Adjustment Assistance and Alternative Trade Adjustment Assistance

In accordance with section 223 of the Trade Act of 1974, as amended (19 U.S.C. 2273) the Department of Labor herein presents summaries of determinations regarding eligibility to apply for trade adjustment assistance for workers (TA-W) number and alternative trade adjustment assistance (ATAA) by (TA-W) number issued during the period of November 13 through November 23, 2007.

In order for an affirmative determination to be made for workers of a primary firm and a certification issued regarding eligibility to apply for worker adjustment assistance, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of section 222(a)(2)(A) (increased imports) of the Trade Act have been met.

None.

The following certifications have been issued. The requirements of section 222(a)(2)(B) (shift in production) of the Trade Act have been met.

TA-W-62,364; Cellular Express, Inc., d/b/a/ Boston Communications Group, Inc., Bedford, MA: October 25, 2006.

The following certifications have been issued. The requirements of section 222(b) (supplier to a firm whose workers are certified eligible to apply for TAA) of the Trade Act have been met.

None.

The following certifications have been issued. The requirements of section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of section 222(a)(2)(A) (increased imports) and section 246(a)(3)(A)(ii) of the Trade Act have been met.

TA-W-62,279; Titan Tool, Inc., Including On-Site Leased Workers from Assurance, Oakland, NJ: October 9, 2006.

TA-W-62,280; UCO Spinning, L.P., A Subsidiary of UCO Fabrics, Inc., Snyder, TX: October 9, 2006.

TA-W-62,435; Huffman Finishing Company, Inc., Granite Falls, NC: November 5, 2006.

TA-W-62,082; LexaMar Corporation, Decoma International Division, On-Site Leased Workers from Northern Staffing; Boyne City, MI: August 29, 2006.

TA-W-62,200; Plum Creek, Ksanka Sawmill, Fortine, MT: September 21, 2006.

TA-W-62,223; Bodine Corporation; Bridgeport, CT: September 28, 2006.

TA-W-62,246; Aristech Chemical Corporation; Neville Island Plant, Neville Island, PA: October 1, 2006.

TA-W-62,269; Norwalk Furniture Corporation of Tennessee, Cookeville, TN: October 5, 2006.

TA-W-62,029; Foxcroft Sportswear, Fall River, MA: August 21, 2006.

TA-W-62,109; FabCare International, LLC, Celina, TN: September 4, 2006.

TA-W-62,237; Linzhi Fashion, Inc., New York, NY: September 30, 2006.

TA-W-62,383; Jasper C. Fashion, Inc., New York, NY: October 15, 2006.

The following certifications have been issued. The requirements of section 222(a)(2)(B) (shift in production) and section 246(a)(3)(A)(ii) of the Trade Act have been met.

TA-W-62,324; Flynn Enterprises Inc., LLC; Distribution Warehouse; Hopkinsville, KY: October 17, 2006.

TA-W-62,352; Weyerhaeuser Company, ilevel Division; Ironton, MN: October 23, 2006.

TA-W-62,360; GE Aviation; Formerly Smiths Aerospace LLC, Motor Winding Group; Corona, CA: October 24, 2006.

TA-W-62,379; Federal Mogul Ignition Company, Burlington, IA: October 15, 2006.

TA-W-62,387; SAF Holland USA, Inc., Warrenton Division; Warrenton, MO: October 22, 2006.

TA-W-62,393; American Axle and Manufacturing, Inc., Buffalo Gear and Axle Facility, Buffalo, NY: October 18, 2006.

TA-W-62,396; Atreum-Brighton; Decoma Int'l Div., Qualified Staffing, Aerotek, Brighton, MI: October 30, 2006.

TA-W-62,398; Federal Mogul Corporation; Wiper Product Division; Michigan City, IN: November 1, 2006.

TA-W-61,989; Yellow Book USA; Formerly MacGregor Publishing Co., Mount Vernon, WA: August 10, 2006.

TA-W-62,428; Home Products International, Mooresville, NC: November 6, 2006.

The following certifications have been issued. The requirements of section 222(b) (supplier to a firm whose workers are certified eligible to apply for TAA) and section 246(a)(3)(A)(ii) of the Trade Act have been met.

TA-W-62,186; TRW Automotive U.S. LLC; Commercial Steering Division; Lebanon, TN: September 20, 2006.

TA-W-62,227; Plastech Engineered Products, Inc., Fowlerville Division, Fowlerville, MI: September 17, 2006.

TA-W-62,295; Temple Inland—Hope Forest Products Division; Hope, AR: October 11, 2006.

The following certifications have been issued. The requirements of section 222(b) (downstream producer for a firm whose workers are certified eligible to apply for TAA based on increased imports from or a shift in production to Mexico or Canada) and section 246(a)(3)(A)(ii) of the Trade Act have been met.

None.

Negative Determinations for Alternative Trade Adjustment Assistance

In the following cases, it has been determined that the requirements of 246(a)(3)(A)(ii) have not been met for the reasons specified.

The Department has determined that criterion (1) of section 246 has not been met. The firm does not have a significant number of workers 50 years of age or older.

None.

The Department has determined that criterion (2) of section 246 has not been met. Workers at the firm possess skills that are easily transferable.

None.

The Department has determined that criterion (3) of section 246 has not been met. Competition conditions within the workers' industry are not adverse.

TA-W-62,364; Cellular Express, Inc., d/b/a/ Boston Communications Group, Inc., Bedford, MA.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-62,272; Flint Group, Inc., Plymouth, MI.

TA-W-62,293; Truck Specialty Center (TSC), International Truck and Engine Corporation; Springfield, OH.

TA-W-62,414; Consistent Textile Industries, Inc., Dallas, NC.

The investigation revealed that criteria (a)(2)(A)(I.B.) (Sales or production, or both, did not decline) and (a)(2)(B)(II.B.) (shift in production to a foreign country) have not been met.

None.

The investigation revealed that criteria (a)(2)(A)(I.C.) (increased imports) and (a)(2)(B)(II.B.) (shift in production to a foreign country) have not been met.

TA-W-62,247; Soller, LLC, Bennettsville, SC.

TA-W-62,255; Liqui-Box Corporation; Upper Sandusky, OH.

TA-W-62,358; Pelican and Company Manufacturing Group, LLC; Winnsboro, LA.

TA-W-62,052; Freescale Semiconductor, Inc., New Product Introduction (NPI), CS1 Factory, Tempe, AZ.

TA-W-62,325; Triton Operations, d/b/a Webster Hardwoods LLC; Bangor, WI.

The workers' firm does not produce an article as required for certification under section 222 of the Trade Act of 1974.

TA-W-62,290; Wachovia Corp., Disbursement Dept., Retirement Service Div., Charlotte, NC.

TA-W-62,326; Kasper LTD., Secaucus, NJ.

TA-W-62,333; Liberty Fibers Corporation; Lowland, TN.

TA-W-62,347; Alliance Title Company; Campbell, CA.

TA-W-62,361; Kantar Operations, Rock Island, IL.

TA-W-62,366; Curves; Berlin, NH.

TA-W-62,378; Concentra Health Solutions, Workers Employed at Continental Tire North America; Charlotte, NC.

TA-W-62,421; RCN Telecom Services, Wilkes-Barre, PA.

TA-W-62,449; Newburgh Hardwood Co., Inc., Newburgh, IN.

The investigation revealed that criteria of Section 222(b)(2) has not been met. The workers' firm (or subdivision) is not a supplier to or a downstream producer for a firm whose workers were certified eligible to apply for TAA.

None.

I hereby certify that the aforementioned determinations were issued during the period of November 13 through November 23, 2007. Copies of these determinations are available for inspection in Room C-5311, U.S. Department of Labor, 200 Constitution Avenue, NW., Washington, DC 20210 during normal business hours or will be mailed to persons who write to the above address.

Dated: November 28, 2007.
Ralph DiBattista,
Director, Division of Trade Adjustment Assistance.

[FR Doc. E7-23795 Filed 12-7-07; 8:45 am]

BILLING CODE 4510-FN-P